DEPARTMENT OF TRANSPORTATION

[Docket No. DOT-OST-2015-0112]

Agency Requests for Reinstatement of a Previously Approved Information Collection(s): Uniform Administrative Requirements for Grants and Cooperative Agreements to State and Local Governments and for Grants and Cooperative Agreements With Institutions of Higher Education, Hospitals, and Other Nonprofit Organizations

AGENCY: Department of Transportation.

ACTION: Notice and request for comments.

SUMMARY: The Department of Transportation (DOT) invites public comments about our intention to request the Office of Management and Budget (OMB) approval previously approved information collection. This information collection involves the use of various forms necessary because of management and oversight responsibilities of the agency imposed by OMB Circular 2 CFR 200, Uniform Administrative Requirements, Cost Principles, and Audit Requirements for Federal Awards. These forms include Application for Federal Assistance (SF-424), Federal Financial Report (SF-425), Request for Advance or Reimbursement (SF-270), and Outlay Report and Request for Reimbursement for Construction Programs (SF-271).

We are required to publish this notice in the Federal Register by the Paperwork Reduction Act of 1995, Public Law 104-13.

DATES: Written comments should be submitted by July 30, 2015.

ADDRESSES: You may submit comments [identified by Docket No. DOT-OST-2015-0112] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Ellen Shields, Associate Director of the Financial Assistance Policy and Oversight Division, M-65, Office of the Senior Procurement Executive, Office of the Secretary, U.S. Department of Transportation, 1200 New Jersey Avenue SE., Washington, DC 20590, (202) 366-4268. Refer to OMB Control Number 2105-0520.

SUPPLEMENTARY INFORMATION:

OMB Control Number: 2105-0520

Title: Uniform Administrative Requirements, Cost Principles, and Audit Requirements for Federal Awards.

Form Numbers: SF-424, SF-425, SF-270, and SF-271.

Type of Review: Revision of a previously approved collection.

Background: This is to request the Office of Management and Budget's (OMB) renewed three-year approved clearance for the information collection, entitled, “Uniform Administrative Requirements, Cost Principles, and Audit Requirements for Federal Awards” OMB Control No. 2105-0520, which is currently due to expire on June 30, 2015. Originally this OMB Control Number was titled: Uniform Administrative Requirements for Grants and Agreements to State and Local Governments and With Institution of Higher Education, Hospitals and Other Non-Profit Organizations (OMB Circulars A-110 and 2 CFR 215). However, on December 26, 2014, OMB issued new guidelines titled: Uniform Administrative Requirements, Cost Principles, and Audit Requirements for Federal Awards and these guidelines cover the following data collection standard forms (SF): Application for Federal Assistance (SF-424); Federal Financial Report (SF-425); Request for Advance or Reimbursement (SF-270); and Outlay Report & Request for Reimbursement for Construction Programs (SF-271).

There have also been adjustments to the burden estimates. In 2010, the Department estimated a combined total of 2,704 respondents and 189,280 burden hours. Due to a 35% decrease in appropriations, the Department has revised estimates and now has a combined total of 1,758 respondents and burden hours of 123,060. The estimated cost to respondents and the federal government has decreased by 35% in overhead expenses.

Respondents: Grantees.

Number of Respondents: 1,758.

Number of Responses: 7,030.

Total Annual Burden: 123,060.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1:48.

Issued in Washington, DC on May 29, 2015.
Ellen Shields,
Associate Director, Financial Assistance Policy and Oversight, Office of the Senior Procurement Executive.

[FR Doc. 2015-13488 Filed 6-2-15; 8:45 am]

BILLING CODE 4910-9X-P